DEPARTMENT OF TRANSPORTATION

Federal Aviation Administration

Proposed Order 8110.ICA, Instructions for Continued Airworthiness, Responsibilities, Requirements, and Content.

AGENCY: Federal Aviation Administration, DOT.

ACTION: Notice extending the public comment period.

SUMMARY: This notice announces the time extension we are offering to the public to submit comments on proposed Order 8110.ICA. This time extension is necessary to give all interested persons an opportunity to present their views on the proposed policy.

DATES: Comments must be received on or before August 20, 2004.

ADDRESSES: Send all comments on the proposed policy to: Michael Reinert, Delegation and Airworthiness Programs Branch, P.O. Box 26460, Oklahoma City, OK 73125. Comments may be faxed to (405) 954-4104 or e-mailed to: mike.reinert@faa.gov.

FOR FURTHER INFORMATION CONTACT: Michael Reinert, Aircraft Engineering Division, Airworthiness Programs Branch (AIR-140), P.O. Box 26460, Oklahoma City, OK 73125. Telephone: (405) 954-4815, or FAX: (405) 954-4104.

SUPPLEMENTARY INFORMATION:

Comments Invited

You are invited to comment on the proposed Order by submitting such written data, views, or arguments to the address or FAX number listed above. Your comments should identify “Order 8110.ICA.” The Associated Administrator for Regulation and Certification will consider all communications received on or before the closing date before issuing the final Order.

Background

This proposed Order explains to the Aircraft/Engine Certification office (ACO/ECO) and Aircraft Evaluation Group (AEG) personnel their responsibilities and methods on how to review and accept Instructions for Continued Airworthiness (ICA). The contents of this order supplements the regulatory requirements contained in 14 CFR 21.50(b), 23.1529 Appendix G, 25.1529 Appendix H, 27.1529 Appendix A, 31.82 Appendix A, 33.4 Appendix A, and 35.4 Appendix A.

The guidance contained in this proposed Order cancels the following documents in their entirety:

• Order 8110.50, Submitting Instruction for Continued Airworthiness for Type Certificates, Amended Type Certificates and Supplemental Type Certificates, dated October 20, 2003.

• Office of Airworthiness Policy Memorandum, Interpretation of FAR 21.50B, dated August 3, 1982.

• Office of Airworthiness Policy Memorandum, Interpretation of FAR 21.50B, dated August 8, 1983.

How To Obtain Copies

You may get a copy of the proposed Order from the Internet at: http://www.airweb.faa.gov/Regulatory_and_Guidance_Library/rgDAC.nsf/MainFrame?OpenFrameSet. You may also request a copy from Michael Reinert. See the section entitled FOR FURTHER INFORMATION CONTACT for the complete address.

Issued in Washington, DC, on June 25, 2004.
Susan J.M. Cabler,
Acting Manager, Aircraft Engineering Division, Aircraft Certification Service.

[FR Doc. 04-15041 Filed 7-2-04; 8:45 am]

BILLING CODE 4910-13-M